DEPARTMENT OF ENERGY

Federal Energy Regulatory Commission

Combined Notice of Filings

Take notice that the Commission has received the following Natural Gas Pipeline Rate and Refund Report filings:

Filings Instituting Proceedings

Docket Numbers: RP24-923-000.

Applicants: Iroquois Gas Transmission System, L.P.

Description: 4(d) Rate Filing: 7.31.24 Negotiated Rates—Koch Energy Services, LLC R-7755-08 to be effective 8/1/2024.

Filed Date: 7/31/24.

Accession Number: 20240731-5031.

Comment Date: 5 p.m. ET 8/12/24.

Docket Numbers: RP24-924-000.

Applicants: Granite State Gas Transmission, Inc.

Description: 4(d) Rate Filing: Revised tariff records in Original Volume No. 1 of its FERC Gas Tariff to be effective 9/1/2024.

Filed Date: 7/31/24.

Accession Number: 20240731-5033.

Comment Date: 5 p.m. ET 8/12/24.

Docket Numbers: RP24-925-000.

Applicants: West Texas Gas Utility, LLC.

Description: Annual Purchased Gas Cost Reconciliation Report of West Texas Gas Utility, LLC.

Filed Date: 7/31/24.

Accession Number: 20240731-5036.

Comment Date: 5 p.m. ET 8/12/24.

Docket Numbers: RP24-926-000.

Applicants: Eastern Gas Transmission and Storage, Inc.

Description: 4(d) Rate Filing: EGTS—Revision Clarifying Incremental Electric Power Costs to be effective 9/1/2024.

Filed Date: 7/31/24.

Accession Number: 20240731-5038.

Comment Date: 5 p.m. ET 8/12/24.

Docket Numbers: RP24-927-000.

Applicants: Enable Mississippi River Transmission, LLC.

Description: Compliance filing: MRT RP20-131 and RP20-212, et seq. Cost and Revenue Study Compliance Filing to be effective N/A.

Filed Date: 7/31/24.

Accession Number: 20240731-5041.

Comment Date: 5 p.m. ET 8/12/24.

Docket Numbers: RP24-928-000.

Applicants: MountainWest Overthrust Pipeline, LLC.

Description: Annual Fuel Gas Reimbursement Report of MountainWest Overthrust Pipeline, LLC.

Filed Date: 7/31/24.

Accession Number: 20240731-5043.

Comment Date: 5 p.m. ET 8/12/24.

Docket Numbers: RP24-929-000.

Applicants: El Paso Natural Gas Company, L.L.C.

Description: 4(d) Rate Filing: Negotiated Rate Agreements Update (Hartree 614700 615843 610670 Aug 2024) to be effective 8/1/2024.

Filed Date: 7/31/24.

Accession Number: 20240731-5044.

Comment Date: 5 p.m. ET 8/12/24.

Docket Numbers: RP24-930-000.

Applicants: Kern River Gas Transmission Company.

Description: 4(d) Rate Filing: 2024 BP, Concord, Constellation TSA Term Amendments to be effective 8/1/2024.

Filed Date: 7/31/24.

Accession Number: 20240731-5048.

Comment Date: 5 p.m. ET 8/12/24.

Docket Numbers: RP24-931-000.

Applicants: Honeoye Storage Corporation.

Description: Compliance filing: HSC 2024 Rate Case Compliance Filing to be effective 9/1/2024.

Filed Date: 7/31/24.

Accession Number: 20240731-5054.

Comment Date: 5 p.m. ET 8/12/24.

Docket Numbers: RP24-932-000.

Applicants: Kern River Gas Transmission Company.

Description: 4(d) Rate Filing: 2024 KRF-1 Form of Service Exhibit A Filing to be effective 9/1/2024.

Filed Date: 7/31/24.

Accession Number: 20240731-5057.

Comment Date: 5 p.m. ET 8/12/24.

Docket Numbers: RP24-933-000.

Applicants: National Fuel Gas Supply Corporation.

Description: 4(d) Rate Filing: Negotiated Rate—Citadel Energy Marketing to be effective 9/1/2024.

Filed Date: 7/31/24.

Accession Number: 20240731-5070.

Comment Date: 5 p.m. ET 8/12/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. can help members of the public, including landowners, environmental justice communities, Tribal members and others, access publicly available information and navigate Commission processes. For public inquiries and assistance with making filings such as interventions, comments, or requests for rehearing, the public is encouraged to contact OPP at (202) 502-6595 or OPP@ferc.gov.

Dated: July 31, 2024.
Debbie-Anne A. Reese,
Acting Secretary.

[FR Doc. 2024-17398 Filed 8-6-24; 8:45 am]

BILLING CODE 6717-01-P